DEPARTMENT OF HOUSING AND URBAN DEVELOPMENT

[Docket No. FR-6542-N-01]

Tribal Intergovernmental Advisory Committee; Request for Members Nominations

AGENCY: Office of Assistant Secretary for Public and Indian Housing, U.S. Department of Housing and Urban Development (HUD).

ACTION: Notice.

SUMMARY: This notice seeks nominations for HUD's Tribal Intergovernmental Advisory Committee (TIAC).

DATES: Nominations for potential representatives of the TIAC are due on or before: July 18, 2025.

ADDRESSES: Interested persons are invited to submit nominations for potential representatives of the TIAC. Nominations may be submitted to HUD electronically. All submissions must refer to the above docket number and title.

Electronic Submission of Nominations. Interested persons must submit nominations electronically through the Federal eRulemaking Portal at www.regulations.gov. Electronic submission allows the maximum time to prepare and submit nominations, ensures timely receipt by HUD, and enables HUD to make them immediately available to the public. Nominations submitted electronically through the www.regulations.gov website can be viewed by interested members of the public. Individuals should follow the instructions provided on that website to submit nominations. Note: To receive consideration, nominations must be submitted electronically through www.regulations.gov and refer to the above docket number and title. Nominations should not be submitted by mail.

No Facsimile Comments. Facsimile (FAX) comments will not be accepted.

FOR FURTHER INFORMATION CONTACT: Erna F. Reeves, Acting Deputy Assistant Secretary for Native American Programs, Office of Public and Indian Housing, Department of Housing and Urban Development, 451 Seventh Street SW, Room 4108, Washington, DC 20410-5000, telephone (202) 402-7598 (this is not a toll-free number). HUD welcomes and is prepared to receive calls from individuals who are deaf or hard of hearing, as well as individuals with speech or communication disabilities. To learn more about how to make an accessible call, please visit https://www.fcc.gov/consumers/guides/telecomunicationsrelay-service-trs.

SUPPLEMENTARY INFORMATION:

I. Background

To further enhance consultation and collaboration with Tribal governments, HUD established the TIAC in 2022. It has provided critical support to HUD as it formulates policies having a direct impact on Tribes/Tribally Designated Housing Entities (TDHEs). The Tribal members serve two-year terms. At the end of 2025, seven (7) of the representatives' terms will end.

II. Nominations for TIAC Membership

HUD is requesting nominations for Tribal representatives to serve on the TIAC, starting in January 2026 for two-year terms. Nominations are due on or before: July 18, 2025. Nominations are encouraged from all regions of the continental United States and Alaska. If you are interested in serving as a member of the Committee or in nominating another person to serve as a member of the Committee, you may submit a nomination to HUD in accordance with the Electronic Submission of Nominations section of this notice. Your nomination for membership on the Committee must include:

1. The name of the nominee, a description of the interests the nominee would represent, and a description of the nominee's experience and interest in American Indian and Alaska Native (AIAN) housing and community development matters;

2. Evidence that the nominee is a duly elected or appointed Tribal leader and is authorized to represent a federally recognized Tribal government or Alaska Native Corporation; and

3. A written commitment from the nominee that she or he will actively engage and participate in the Committee meetings.

HUD will appoint the members of the TIAC from the pool of nominees submitted in response to this notice. HUD will announce the final selections for TIAC membership in a future Federal Register notice. Members will be selected based on proven experience and interest in AIAN housing and community development matters, and whether the interest of the proposed member could be represented adequately by other members. In addition to the criteria above, at large members will be selected based on their ability to represent specific interests that might not be represented by the selected regional members. Only elected officers of a Tribal government acting in their official capacities with authority to act on behalf of the Tribal government may serve as TIAC delegates or alternate delegates of the TIAC.

Tribal employees are eligible to serve if appointed by a duly elected Tribal leader of a federally recognized Tribe and are authorized to officially act on the Tribal government's behalf.

Elected officials representing Alaska Native Corporations, or designated employees, may also serve on TIAC at HUD's discretion provided they demonstrate that they meet the criteria specified in the statutory exemption to the Federal Advisory Committee Act (FACA) found in the Unfunded Mandates Reform Act (UMRA) at 2 U.S.C. 1534(b).

Because the TIAC will operate under the Tribal government statutory exemption of FACA found in the UMRA, HUD will not consider nominees solely representing Tribally Designated Housing Entities, State recognized Tribes, or national or regional organizations. However, HUD will consider nominations from associations that represent elected officials of Tribes who have been designated by an elected Tribal leader to participate in TIAC.

III. Purpose of the TIAC and Meetings

A. Purpose and Role of the TIAC

The purposes of the TIAC are:

(1) To further facilitate intergovernmental communication between HUD and Tribal leaders of federally recognized Tribes on all HUD programs;

(2) To make recommendations to HUD regarding current program regulations that may require revision, as well as suggest rulemaking methods to develop such changes. The TIAC will not, however, negotiate any changes to regulations that are subject to negotiated rulemaking under section 106 of the Native American Housing Assistance and Self-Determination Act (NAHASDA) and will not serve in place of any future negotiated rulemaking committee established by HUD; and

(3) To advise in the development of HUD's AIAN housing priorities.

The role of the TIAC is to provide recommendations and input to HUD, and to provide a vehicle for regular, meaningful consultation and collaboration with Tribal officials. It will not replace other means of Tribal consultations, but, rather, will supplement them. HUD will maintain the responsibility to exercise program management, including the drafting of HUD notices, guidance documents, and regulations.

B. Meetings and Participation

Subject to availability of Federal funding, the TIAC plans to meet in-person twice a year (one meeting at HUD Headquarters in Washington DC and the other at some location elsewhere in the country) to discuss agency policies and activities with HUD, set shared priorities, and facilitate further consultation with Tribal leaders. HUD will pay for these meetings, including the member's cost to travel to these meetings. The TIAC may meet on a more frequent basis virtually, via conference calls, videoconferences, or through other forms of communication. Additional in-person meetings may be scheduled at HUD's discretion in the future. Participation at TIAC meetings will be limited to TIAC members or their alternates. Alternates must be designated in writing by the member's Tribal government to officially act on their behalf. TIAC members may bring one technical advisor to the meeting at their expense. The technical advisor can advise the member. Meeting summaries may be available on the HUD website.

C. TIAC Membership

The TIAC is comprised of HUD representatives and Tribal delegates from across the country, representing small, medium, and large Tribes. The TIAC is composed of HUD officials (including the Secretary or his or her designee, as well as the Assistant Secretaries for the Office of Public and Indian Housing (PIH), Office of Policy, Development, and Research (PD&R), Office of Fair Housing and Equal Opportunity (FHEO), Office of Field Policy Management (FPM), Office of Housing (FHA), Government National Mortgage Association (Ginnie Mae), and Office of Community Planning and Development (CPD) or their designees) and fifteen Tribal delegates. Two Tribal delegates represent each of the six HUD ONAP regions, while three remaining Tribal delegates serve at-large. Only elected officers of a Tribal government acting in their official capacities or designated employees of Tribal governments with authority to act on behalf of the Tribal government may serve as TIAC delegates or alternates of the TIAC. Elected officials representing Alaska Native Corporations, or designated employees, may also serve on TIAC at HUD's discretion provided they demonstrate that they meet the criteria specified in the statutory exemption to FACA found in the UMRA. The Secretary of HUD will appoint the HUD representatives of the TIAC. TIAC Tribal delegates will serve a term of two years. To ensure consistency between Tribal terms, delegates serve a staggered term of appointment. Should a delegate's tenure as a Tribal leader come to an end during their appointment to the TIAC, the delegate's Tribe will nominate a replacement or designate an already nominated alternate to represent the Tribe.

Benjamin Hobbs,
Principal Deputy Assistant Secretary for Public and Indian Housing.

[FR Doc. 2025-08838 Filed 5-16-25; 8:45 am]

BILLING CODE 4210-67-P